DEPARTMENT OF DEFENSE

Department of the Navy

Meeting of the Board of Advisors to the Presidents of the Naval Postgraduate School and the Naval War College

AGENCY: Department of the Navy, DoD.

ACTION: Notice of Open Meeting.

SUMMARY: Pursuant to the provisions of the Federal Advisory Committee Act (Pub. L. 92-463, as amended), notice is hereby given that the following meeting of the Board of Advisors (BOA) to the Presidents of the Naval Postgraduate School (NPS) and the Naval War College (NWC) and its two subcommittees will be held. This meeting will be open to the public.

DATES: The meeting will be held on Wednesday, February 19, 2014, from 8:00 a.m. to 4:00 p.m. and on Thursday, February 20, from 8:00 a.m. to 4:00 p.m. Eastern Time Zone.

ADDRESSES: The meeting will be held at 900 N. Glebe Road, Arlington, VA.

FOR FURTHER INFORMATION CONTACT: Ms. Jaye Panza, Naval Postgraduate School, Monterey, CA, 93943-5001, telephone number 831-656-2514.

SUPPLEMENTARY INFORMATION: The Committee examines the effectiveness with which the NPS and the NWC are accomplishing its missions. The agenda is as follows:

(1) February 19, 2014: General deliberations and inquiry by the NWC BOA Subcommittee and its parent committee NPS/NWC BOA into its programs and mission priorities; re-accreditation preparedness; administration; state of morale of the student body, faculty, and staff; fiscal affairs; and any other matters relating to the operations of the NWC as the board considers pertinent.

(2) February 20, 2014: The purpose of the meeting is to elicit the advice of the NPS BOA subcommittee on the Naval Service's Postgraduate Education Program and the collaborative exchange and partnership between the NPS and the Air Force Institute of Technology. With its parent committee NPS/NWC BOA, the board will inquire into programs and curricula; instruction; administration; state of morale of the student body, faculty, and staff; fiscal affairs; as well as reviewing the updates on recommendations cited in the 2012 Navy Inspector General's report. The committee will review any other matters relating to the operations of the NPS as the board considers pertinent.

Individuals without a DoD Government Common Access Card require an escort at the meeting location. For access, information, or to send written statements for consideration at the committee meeting must contact Ms. Jaye Panza, Naval Postgraduate School, 1 University Circle, Monterey, CA 93943-5001 or by fax 831-656-3145 by February 7, 2014.

Dated: January 15, 2014.
N. A. Hagerty-Ford,
Commander, Office of the Judge Advocate General, U.S. Navy, Federal Register Liaison Officer.

[FR Doc. 2014-01265 Filed 1-22-14; 8:45 am]

BILLING CODE 3810-FF-P